DEPARTMENT OF ENERGY

Federal Energy Regulatory Commission

Combined Notice of Filings #1

Take notice that the Commission received the following electric rate filings:

Docket Numbers: ER16-2534-003.

Applicants: Midcontinent Independent System Operator, Inc., Northern Indiana Public Service Company.

Description: Compliance filing: 2017-07-11_Filing to implement Offer of Settlement re NIPSCO deprec rates to be effective 10/1/2016.

Filed Date: 7/11/17.

Accession Number: 20170711-5119.

Comments Due: 5 p.m. ET 8/1/17.

Docket Numbers: ER17-1191-002.

Applicants: Otter Tail Power Company.

Description: Tariff Amendment: Second Amendment to Extend Time for Action to be effective 7/30/2010.

Filed Date: 7/10/17.

Accession Number: 20170710-5197.

Comments Due: 5 p.m. ET 7/31/17.

Docket Numbers: ER17-1310-001.

Applicants: New York Independent System Operator, Inc.

Description: Tariff Amendment: NYISO Response to Deficiency Letter on Regional Cost Allocation Methodology to be effective 12/31/9998.

Filed Date: 7/10/17.

Accession Number: 20170710-5335.

Comments Due: 5 p.m. ET 7/31/17.

Docket Numbers: ER17-2072-000.

Applicants: California Independent System Operator Corporation.

Description: Compliance filing: 2017-07-10 Petition for Tariff Waiver—CPM Designation Report to be effective N/A.

Filed Date: 7/10/17.

Accession Number: 20170710-5399.

Comments Due: 5 p.m. ET 7/31/17.

Docket Numbers: ER17-2073-000.

Applicants: PJM Interconnection, L.L.C.

Description: § 205(d) Rate Filing: Amendment to Service Agreement No. 2536, Queue Nos. O66/V1-034 to Convert TWR to be effective 6/2/2017.

Filed Date: 7/10/17.

Accession Number: 20170710-5410.

Comments Due: 5 p.m. ET 7/31/17.

Take notice that the Commission received the following electric securities filings:

Docket Numbers: ES17-40-000.

Applicants: MDU Resources Group, Inc.

Description: Application under Section 204 of the Federal Power Act for authorization to issue short-term securities of MDU Resources Group, Inc.

Filed Date: 7/10/17.

Accession Number: 20170710-5413.

Comments Due: 5 p.m. ET 7/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2017.
Nathaniel J. Davis, Sr.,
Deputy Secretary.

[FR Doc. 2017-14897 Filed 7-14-17; 8:45 am]

BILLING CODE 6717-01-P